DEPARTMENT OF ENERGY

Federal Energy Regulatory Commission

[Project No. 13744-000; Project No. 13755-000]

Lock+™ Hydro Friends Fund XXXVIII, FFP Missouri 12, LLC, et al.; Notice of Competing Preliminary Permit Applications Accepted for Filing and Soliciting Comments, and Motions To Intervene

December 8, 2010.

Lock+™ Hydro Friends Fund XXXVIII | Project No. 13744-000
FFP Missouri 12, LLC | Project No. 13755-000
Allegheny 2 Hydro, LLC | Project No. 13774-000
Three Rivers Hydro, LLC | Project No. 13780-000

On May 18, 2010, Lock+™ Hydro Friends Fund XXXVIII, FFP Missouri 12, LLC, Allegheny 2 Hydro, LLC, and Three Rivers Hydro, LLC, filed an application, pursuant to section 4(f) of the Federal Power Act, proposing to study the feasibility of hydropower at the U.S. Army Corps of Engineers Allegheny Lock and Dam 2 on the Allegheny River near the town of Sharpsburg, in Allegheny County, Pennsylvania. The sole purpose of a preliminary permit, if issued, is to grant the permit holder priority to file a license application during the permit term. A preliminary permit does not authorize the permit holder to perform any land-disturbing activities or otherwise enter upon lands or waters owned by others without the owners' express permission.

Descriptions of the proposed Allegheny River Lock and Dam 2 Projects:

Lock+™ Hydro Friends Fund XXXVIII's proposed project (Project No. 13744-000) would consist of: (1) One lock frame module 109 feet long, 40 feet high, and weighing 1.16 million pounds each, and containing 10 generating units with a total combined capacity of 10 megawatts (MW); (2) a 63-foot-high, 75-foot-long prefabricated concrete wall attached to pilings in the river to support the lock frame module; (3) a 25-foot-long, 50-foot-wide switchyard containing a transformer; and (4) a 9,000-foot-long, 69-kilovolt (kV) transmission line to an existing substation. The proposed project would have an average annual generation of 43.83 gigawatt-hours (GWh), which would be sold to a local utility.

Applicant Contact: Mr. Mark R. Stover, Hydro Green Energy LLC, 5090 Richmond Avenue #390, Houston, TX 77056; phone (877) 556-6566 x709.

FFP Missouri 12, LLC's proposed project (Project No. 13755-000) would consist of: (1) An excavated intake and tailrace channel slightly longer and wider than the powerhouse; (2) a 125-foot-long, 160-foot-wide, 60-foot-high powerhouse containing three generating units having a total installed capacity of 12 MW; and (3) a 10,000-foot-long, ranging from 34.0 to 230-kV, transmission line. The proposed project would have an average annual generation of 66 GWh, which would be sold to a local utility.

Applicant Contact: Ms. Ramya Swaminathan, Free Flow Power Corporation, 33 Commercial Street, Gloucester, MA 01930; phone (978) 283-2822.

Allegheny 2 Hydro, LLC's proposed project (Project No. 13774-000) would consist of: (1) A 200-foot-long, excavated power canal; (2) a 200-foot-long tailrace; (3) a powerhouse containing three 5.4-MW generating units having an estimated total capacity of 16.1 MW; (4) a switchyard; and (5) a 2-mile-long, 69.0-kV transmission line. The proposed project would have an average annual generation of 64.7 GWh, which would be sold to a local utility.

Applicant Contact: Mr. Brent Smith, Symbiotics LLC., P.O. Box 535, Rigby, ID 83442; phone (208) 745-0834.

Three Rivers Hydro, LLC's proposed project (Project No. 13780-000) would consist of: (1) An 85-foot-long, 100-foot-wide, 14-foot-deep excavated power canal; (2) a 95-foot-long, 100-foot-wide, 10-foot-deep excavated tailrace; (3) a 100-foot-long, 90-foot-wide, 45-foot-high concrete powerhouse containing three generating units having a total installed capacity of 12 MW; and (4) a 5,000-foot-long, 23-kV transmission line. The proposed project would have an average annual generation of 66 GWh, which would be sold to a local utility.

Applicant Contact: Mr. Cornelius J. Collins, Three Rivers Hydro, LLC, 316 South Clinton Street, Suite 4, Syracuse, NY 13202; phone (315) 477-9914.

FERC Contact: Gaylord Hoisington, (202) 502-6032.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13744-000, 13755-000, 13774, or 13780-000) in the docket number field to access the document. For assistance, contact FERC Online Support.

Kimberly D. Bose,
Secretary.

[FR Doc. 2010-31416 Filed 12-14-10; 8:45 am]

BILLING CODE 6717-01-P